DEPARTMENT OF THE INTERIOR

Bureau of Land Management

[ID-074-1210-PA-241E]

Final Recreation Use Restrictions, ID

AGENCY: Bureau of Land Management, Interior.

ACTION: Notice of Final Supplementary Rules: Restrictions adjacent to and within the Sand Mountain WSA, Idaho.

SUMMARY: In accordance with 43 CFR 8341.1 and 8365.1-6, the Bureau of Land Management (BLM) proposes to make permanent the temporary restrictions currently in place within the Sand Mountain Wilderness Study Area. The temporary restrictions have been in place since 1992 for motor vehicle use, and since 1999 for uses at Egin Lakes Access and Red Road Recreation sites.

DATES: Comments on the direct final rule must be received or postmarked by June 7, 2002 to be assured consideration. If the BLM does not receive any substantive comments in opposition (i.e., comments showing that the regulatory revisions will adversely impact an individual or entity, the environment, or the public interest), the proposed revisions will become a final rule at the end of the designated comment period on June 7, 2002 without further notice. If we receive any adverse comments, BLM will review the comments, make any appropriate changes and republish the revisions as a proposed rule.

ADDRESSES: Bureau of Land Management, Idaho Falls Field Office, 1405 Hollipark Drive, Idaho Falls, Idaho 83401. Telephone (208) 524-7500.

SUPPLEMENTARY INFORMATION: A direct final rule means the rule will be a final rule at the end of the published comment period, unless we receive substantive comment during the comment period indicating that the direct final rule will adversely affect an individual or entity, the environment, or the public interest (5 U.S.C. 553). If we receive any substantive adverse comments, this rule will not become final. BLM will respond to all such comments in a further rulemaking and make a decision regarding the contentious parts of the rule at a later time. Otherwise, this rule will become effective without further notice on June 7, 2002. These rules have been in place for several years, with ample opportunity for the public to raise concerns to BLM about them.

The Sand Mountain Wilderness Study Area (WSA) includes 21,000 acres of public land that is part of the larger St. Anthony Sand Dunes Special Recreation Management Area (SRMA) in Fremont and Jefferson Counties, ID. BLM established various restrictions within the WSA and SRMA by publishing several Federal Register notices, as listed below. The temporary restrictions were extended in July 2001 (66 FR 35661). They include the following notices:

• Notice of restricted motor vehicle use (57 FR 36405)

• Notice of Recreation Use Restrictions and Regulations for Egin Lakes Access and Red Road Recreation Sites Adjacent and Within the Sand Mountain Wilderness Study Area, Idaho (64 FR 27804)

• Notice of Recreation Use Restrictions and Regulations for Egin Lakes Access and Red Road Recreation Sites Adjacent and Within the Sand Mountain Wilderness Study Area, Idaho (64 FR 46935)

Supplementary Rules for the Sand Mountain Wilderness Study Area (WSA)

The following supplementary rules apply within the WSA:

1. Lands within the WSA are restricted to unlicenced off-road vehicles, including ATVs (3 and 4-wheelers), off-road motorcycles, off-road jeeps, sand dune buggies/rails and other off-road sand vehicles. All licensed vehicles are prohibited, including passenger automobiles, passenger pick-ups, pick-up campers, camp trailers, self-contained campers and similar vehicles.

2. All permitted use must occur on the open sand areas or on designated roads or trails.

3. Glass containers for food and beverages are prohibited within the WSA boundaries.

4. Safety equipment such as helmets, boots, and protective clothing, are strongly recommended.

5. Each vehicle is required to have a “whip flag” not less than 6 feet in length with brightly colored material on the end of the flag.

6. Open campfires are prohibited within the WSA, except in the designated Red Road Open Sand Campfire Area. Within the Red Road Open Sand Campfire Area, burning any foreign material other than wood in all campfires is prohibited. This prohibition includes, but is not limited to pallets, treated lumber, tires, glass, aluminum, etc.

7. Use of personal water craft or other motorized vehicle or craft is prohibited on any body of water within the WSA.

The following supplementary rules apply within the SRMA:

1. Quiet hours will be observed within the Egin Lakes Access Site and Red Road Recreation Area from 11 p.m. to 7 a.m. nightly.

2. Burning any foreign material other than wood in all campfires is prohibited. This prohibition includes, but is not limited to pallets, treated lumber, tires, glass, aluminum, etc.

3. Engaging in fighting is prohibited.

4. Addressing any offensive, derisive, or annoying communication that has a direct tendency to cause acts of violence by the person to whom, individually, the remark is addressed, is prohibited.

5. No person under the age of twenty-one (21) shall possess or consume any alcoholic beverage, as defined by Idaho Code Title 23-105.

These restrictions are intended to reduce the possibility of injury to individuals, or damage to the natural resources within the WSA and the SRMA. Recreational use on the St. Anthony Sand Dunes has increased more than 1000 percent since 1984, with an estimated 150,000 visitors last season. The restrictions will be cited under Title 43 CFR 8364.1, Access Restrictions; and 8365.1-6, Visitors Services, Rules of Conduct, Supplementary Rules. Violations of these restrictions is punishable by a fine not to exceed $1000 and/or imprisonment not to exceed 12 months.

Maps of the areas where the restrictions and regulations apply are available at the Idaho Falls Field Office. Signs with the rules and regulations are posted at all entrances into the WSA as well as at the recreation sites and areas. For more complete information on these restrictions, please refer to the previously mentioned Federal Register notices.

FOR FURTHER INFORMATION CONTACT: Bill Boggs, Bureau of Land Management, Upper Snake River District, Idaho Falls Field Office, 1405 Hollipark Drive, Idaho Falls, Idaho 83401, (208) 524-7527.

Dated: December 19, 2001.
Joe Kraayenbrink,
Idaho Falls Field Manager.

[FR Doc. 02-11439 Filed 5-7-02; 8:45 am]

BILLING CODE 4310-GG-P